ENVIRONMENTAL PROTECTION AGENCY

[EPA-HQ-OPPT-2012-0209; FRL-9351-1]

Enforceable Consent Agreement Development for Two Cyclic Siloxanes; Solicitation of Interested Parties and Notice of Public Meeting

AGENCY: Environmental Protection Agency (EPA).

ACTION: Notice.

SUMMARY: EPA is giving notice of a public meeting to negotiate an enforceable consent agreement (ECA) to collect certain environmental monitoring data on octamethylcyclotetrasiloxane (D4) and decamethylcyclopentasiloxane (D5). A private organization has submitted a proposed ECA to EPA. EPA has evaluated the proposal and believes that proceeding with the negotiation of a consent agreement is an efficient means of developing the data, and now solicits additional persons with an interest in participating in the negotiations to notify EPA and announces a public meeting to initiate negotiations.

DATES: The meeting to initiate ECA negotiations for D4 and D5 environmental monitoring will be held on Wednesday, June 27, 2012 from 10 a.m. to 1 p.m.

While this meeting is open to the public, you must notify EPA in writing on or before June 25, 2012, if you wish to be considered an “interested party” and participate in the ECA negotiations for D4 and D5 environmental monitoring.

To request accommodation of a disability, please contact the technical person listed under FOR FURTHER INFORMATON CONTACT, preferably at least 10 days prior to the meeting, to give EPA as much time as possible to process your request.

ADDRESSES: Your written notification that you wish to participate in the ECA negotiation must be submitted to the technical person listed under FOR FURTHER INFORMATION CONTACT.

The public meeting to initiate negotiations on an ECA for D4 and D5 will be held at the Environmental Protection Agency, EPA East, Room 1117A, 1201 Constitution Ave. NW., Washington, DC 20460.

FOR FURTHER INFORMATION CONTACT: For technical information contact: Robert Jones, Chemical Control Division (7405M), Office of Pollution Prevention and Toxics, Environmental Protection Agency, East Building, 1200 Pennsylvania Avenue NW., Room 4328G, Washington, DC 20460-0001; telephone number: (202) 564-8161, fax number: (202) 564-4765; email address: jones.robert@epa.gov.

For general information contact: The TSCA-Hotline, ABVI-Goodwill, 422 South Clinton Ave., Rochester, NY 14620; telephone number: (202) 554-1404; email address: TSCA-Hotline@epa.gov.

SUPPLEMENTARY INFORMATION:

I. General Information

Does this action apply to me?

This action is directed to the public in general, and may be of particular interest to manufacturers, importers, processors, exporters, distributors, and users of D4 and D5. Because other entities may also be interested, the agency has not attempted to describe all the specific entities that may be affected by this action. If you have any questions regarding the completion of the ECA or the availability of the proposal for this effort, consult the technical contact listed under FOR FURTHER INFORMATION CONTACT.

II. Background

Octamethylcyclotetrasiloxane (D4) (CASR No. 566-67-2) and decamethylcyclopentasiloxane (D5) (CASR No. 541-02-6) are high production volume chemicals having a wide variety of industrial, commercial, and consumer uses. D4 and D5 are highly persistent in sediment and highly bioaccumulative in benthic and aquatic species. Data show D4 to be toxic to aquatic and sediment-dwelling species. EPA has concerns regarding the environmental effects of D4 and D5. Environmental monitoring could help develop a better understanding of the potential effects of these chemicals in the environment.

D4 is an intermediate for silicone copolymers. It is used commercially and has consumer uses in polishes, sanitation, soaps, detergents, adhesives, sealants, and rubber and plastic products. D4 is also used in processing applications such as coupling, blocking or release agents, and synthesis reagents.

D5 is commonly used in personal care products, paints, coatings, paper and textiles, defoamers, release agents, surfactants in cleaning products, and adhesives. It is used as a processing solvent in chemical, resin, and synthetic rubber manufacture and as a chemical intermediate, lubricant, and dry cleaning agent.

Further information on D4 and D5, including existing test data and a product stewardship program developed by Dow Corning, can be found in the public docket for this notice.

III. Solicitation of Interested Parties

EPA is soliciting interested parties to monitor or participate in testing negotiations for an ECA concerning D4 and D5 environmental monitoring. The Silicone Environmental Health and Safety Council (SEHSC), the submitter of the ECA proposal for the environmental monitoring of D4 and D5, is already considered an interested party and does not need to respond to this notice.

In accordance with 40 CFR 790.22(b), any other person who notifies EPA in writing on or before June 25, 2012 of his/her interest in participating in the negotiations will be given the status of “interested party” and will be permitted to participate in the negotiation process (other members of the public may attend the negotiation meeting(s), but will not be permitted to participate in the negotiation). Persons who wish to be designated an “interested party” must submit written notice to the technical contact person listed under FOR FURTHER INFORMATION CONTACT.

IV. Public Participation in Negotiations

The procedural rule for ECAs (40 CFR 790.22, Procedures for developing consent agreements) contains provisions to ensure that the public is afforded a chance to participate in ECA negotiations, and that the views of interested parties are taken into account during the ECA negotiation process. All negotiating meetings for the development of this ECA will be open to the public and minutes of each meeting will be prepared by EPA and placed in the docket for this notice.

EPA will advise interested parties and the public of meeting dates and make available meeting minutes, the proposed consent agreement, background documents, and other materials distributed at negotiation meetings. The negotiation time schedule will be established at the first negotiation meeting and will not exceed a period of 6 months from the initial meeting. If an ECA is not final within 6 months from the initial meeting and EPA does not choose to extend the negotiation time period, negotiations will be terminated and any unmet data needs may be pursued via a test rule promulgated under TSCA section 4.

EPA will circulate a draft of the ECA to all interested parties if EPA concludes that such draft is likely to achieve final agreement, and 30 days will be provided for submitting comments or written objections. EPA will enter into consent agreements only where there is a consensus among the agency, one or more manufacturers and/or processors who agree to conduct or sponsor the testing, and all other interested parties who identify themselves in accordance with 40 CFR 790.22(b)(2). Details on the procedures for developing consent agreements can be found in 40 CFR 790.22. Details on what an ECA must include can be found in 40 CFR 790.60.

V. Supporting Documentation

Meeting minutes, the proposed consent agreement(s), background documents, and other materials distributed at negotiation meetings will be placed in an Internet-accessible public docket identified by docket number EPA-HQ-OPPT-2012-0209, available online at http://www.regulations.gov. The docket for this notice contains the following:

1. SEHSC. Environmental Monitoring Proposal for Certain Cyclic Siloxanes—D4 and D5. Power Point Presentation. March 1, 2012.

2. USEPA Testing Consent Order for Octamethylcyclotetrasiloxane. Final Rule. 54 FR 818, January 10, 1989.

3. SEHSC. Memorandum from Karluss Thomas. Executive Director, SEHSC to Maria J. Doa, Director, Chemical Control Division, Office of Pollution Prevention and Toxics, U.S. Environmental Protection Agency. Re: Proposed Terms of Environmental Monitoring Proposal for Certain Cyclic Siloxanes. March 1, 2012.

4. SEHSC. Attachment 1. Proposed Terms of Enforceable Consent Agreement for D4 and D5 Environmental Monitoring Program. March 1, 2012.

5. SEHSC Attachment 2. Draft Project Charter: Proposed 5-year monitoring plan for cyclic volatile methylsiloxane (cVMS) materials in surface sediment and aquatic biota of the Inner Oslo Fiord, Norway. March 7, 2012.

6. USEPA. Product Stewardship Program for Six Siloxanes Conducted Under a Memorandum of Understanding (MOU) Signed by EPA and the Dow Corning Corporation; Notice of Receipt and Availability of the MOU Data. 74 FR 38013, July 30, 2009.

List of Subjects

Environmental protection, Chemicals, Hazardous substances, Reporting and recordkeeping requirements.

Dated: May 17, 2012.
Jim Jones,
Acting Assistant Administrator, Office of Chemical Safety and Pollution Prevention.

[FR Doc. 2012-12626 Filed 5-23-12; 8:45 am]

BILLING CODE 6560-50-P